DEPARTMENT OF HOMELAND SECURITY

U.S. Customs and Border Protection

19 CFR Part 101

[Docket No. USCBP-2017-0017]

Extension of Port Limits of Savannah, GA

AGENCY: U.S. Customs and Border Protection, Department of Homeland Security.

ACTION: Notice of proposed rulemaking.

SUMMARY: U.S. Customs and Border Protection (CBP) is proposing to extend the geographical limits of the port of entry of Savannah, Georgia. The proposed extension will make the boundaries more easily identifiable to the public and will allow for uniform and continuous service to the extended area of Savannah, Georgia. The proposed change is part of CBP's continuing program to use its personnel, facilities, and resources more efficiently and to provide better service to carriers, importers, and the general public.

DATES: Comments must be received on or before September 1, 2017.

ADDRESSES: Please submit comments, identified by docket number, by one of the following methods:

• Federal eRulemaking Portal: http://www.regulations.gov. Follow the instructions for submitting comments via docket number USCBP-2017-0017.

• Mail: Trade and Commercial Regulations Branch, Office of Trade, U.S. Customs and Border Protection, 90 K Street NE., 10th Floor, Washington, DC 20229-1177.

Instructions: All submissions received must include the agency name and docket number for this rulemaking. All comments received will be posted without change to http://www.regulations.gov, including any personal information provided.

Docket: For access to the docket to read background documents or comments received, go to http://www.regulations.gov. Submitted comments may be inspected during regular business days between the hours of 9 a.m. and 4:30 p.m. at the Trade and Commercial Regulations Branch, Regulations and Rulings, Office of Trade, Customs and Border Protection, 90 K Street NE., 10th Floor, Washington, DC 20229-1177. Arrangements to inspect submitted comments should be made in advance by calling Mr. Joseph Clark at (202) 325-0118.

FOR FURTHER INFORMATION CONTACT: Roger Kaplan, Office of Field Operations, U.S. Customs and Border Protection, (202) 325-4543, or by email at Roger.Kaplan@dhs.gov.

SUPPLEMENTARY INFORMATION:

I. Public Participation

Interested persons are invited to participate in this rulemaking by submitting written data, views, or arguments on all aspects of the proposed rule. U.S. Customs and Border Protection (CBP) also invites comments that relate to the economic, environmental, or federalism effects that might result from this proposed rule. Comments that will provide the most assistance to CBP will reference a specific portion of the proposed rule, explain the reason for any recommended change, and include data, information, or authority that support such recommended change.

II. Background

As part of its continuing efforts to use CBP's personnel, facilities, and resources more efficiently, and to provide better service to carriers, importers, and the general public, CBP is proposing to extend the limits of the Savannah, Georgia port of entry. The CBP ports of entry are locations where CBP officers and employees are assigned to accept entries of merchandise, clear passengers, collect duties, and enforce the various provisions of customs, immigration, agriculture, and related U.S. laws at the border. The term “port of entry” is used in the Code of Federal Regulations (CFR) in title 8 for immigration purposes and in title 19 for customs purposes. For immigration purposes, Savannah, Georgia port of entry is classified as a Class A port in District 26 under 8 CFR 100.4(a).¹ For customs purposes, CBP regulations list designated CBP ports of entry and the limits of each port in 19 CFR 101.3(b)(1).

¹ Ports of entry for immigration purposes are currently listed at 8 CFR 100.4.

Savannah, Georgia was designated as a customs port of entry by the President's message of March 3, 1913, concerning a reorganization of the U.S. Customs Service pursuant to the Act of August 24, 1912 (37 Stat. 434; 19 U.S.C. 1). Executive Order 8367, dated March 5, 1940, established specific geographical boundaries for the port of entry of Savannah, Georgia.

The current boundaries of the Savannah port of entry begin at the intersection of US Highway 17 and Little Back River on the line between South Carolina and Georgia; thence in a general southeasterly direction through the Little Back River, Back River, Savannah River and South Channel to the mouth of St. Augustine Creek, a distance of 11.6 miles; thence in a straight line in a southwesterly direction to the intersection of Moore Avenue and DeRenne Avenue, a distance of 5.8 miles; thence in a straight line in a westerly direction to the intersection of Middle Ground Road and DeRenne Avenue, a distance of 2.7 miles; thence in a straight line in a westerly direction to the intersection of Garrard Avenue and Ogeechee Road, a distance of 2.4 miles; thence in a straight line in a northwesterly direction to the intersection of Louisville Road and Bourne Avenue, a distance of 6.2 miles; thence in a straight line in a northeasterly direction to the intersection of Augusta Road and Augustine Creek, a distance of 4.8 miles; thence in a general easterly direction along Augustine Creek to the Savannah River, a distance of 2.4 miles; thence in a straight line in an easterly direction to the Chatham County line on Coastal Highway and Little Back River (the point of the beginning), a distance of 1.4 miles. CBP has included a map of the current port limits in the docket as “Attachment: Port of Entry of Savannah (blue lines).”

Travel modes, trade volume, and transportation infrastructure have expanded greatly since 1940. For example, much of Savannah-Hilton Head International Airport is located beyond the current port limits, including the site of the proposed replacement Federal Inspection Service facility for arriving international travelers. Similarly, distribution centers and cold storage agricultural facilities that support the seaport are located outside existing port limits. As a result, the greater Savannah area's trade and travel communities do not know with certainty if they will be able to receive CBP services if they build facilities on the region's remaining undeveloped properties, almost all outside the boundaries of the port of entry.

To address these concerns regarding the geographic limits of the port, CBP is proposing to amend 19 CFR 101.3(b)(1) to extend the boundaries of the port of entry of Savannah, Georgia, to include the majority of Chatham County, Georgia, as well as a small portion of Jasper County, South Carolina. The update will also provide uniform and continuous service to the extended area of Savannah, Georgia, and respond to the needs of the trade and travel communities. Further, the extension of the boundaries will include all of Savannah-Hilton Head Airport, the distribution centers and cold storage agricultural facilities, as well as the site of the proposed replacement Federal Inspection Service facility for arriving international travelers, and any other projected new facilities. However, the proposed change in the boundaries of the port of Savannah, Georgia, will not result in a change in the service that is provided to the public by the port and will not require a change in the staffing or workload at the port.

III. Proposed Port Limits of Savannah, Georgia

The new port limits of Savannah, Georgia, are proposed as follows:

From 32°14.588′ N.—081°08.455′ W. (where Federal Interstate Highway 95 crosses the South Carolina-Georgia state line) and extending in a straight line to 32°04.903′ N.—080°04.998′ W. (where Walls Cut meets Wright River and Turtle Island); then proceeding in a straight line to 31°52.651′ N.—081°03.331′ W. (where Adams Creek meets Green Island South); then proceeding northwest in a straight line to 32°00.280′ N.—081°17.00′ W. (where Highway 204 intersects Federal Interstate Highway 95); then proceeding along the length of Federal Interstate Highway 95 to the point of beginning at the state line. CBP has included a map of the proposed port limits in the docket as “Attachment: Port of Entry of Savannah (red lines).”

IV. Inapplicability of Notice and Public Procedure Requirements

CBP routinely establishes, expands, and consolidates ports of entry throughout the United States to accommodate the volume of CBP-related activity in various parts of the country. This proposed amendment is not subject to the notice and public procedure requirements of 5 U.S.C. 553 because it relates to agency management and organization (5 U.S.C. 553(a)(2) and 553(b)(3)(A)). Notwithstanding the above, CBP generally provides the public with an opportunity to comment on the establishment, expansion and consolidation of ports of entry.

V. Statutory and Regulatory Reviews

A. Executive Orders 12866, 13563 and 13771

Executive Orders 12866 (“Regulatory Planning and Review”) and 13563 (“Improving Regulation and Regulatory Review”) direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. Executive Order 13771 (“Reducing Regulation and Controlling Regulatory Costs”) directs agencies to reduce regulation and control regulatory costs and provides that “for every one new regulation issued, at least two prior regulations be identified for elimination, and that the cost of planned regulations be prudently managed and controlled through a budgeting process.”

The Office of Management and Budget (OMB) has not designated this rule a significant regulatory action under section 3(f) of Executive Order 12866. Accordingly, OMB has not reviewed it. As this rule is not a significant regulatory action, this rule is exempt from the requirements of Executive Order 13771. See OMB's Memorandum “Guidance Implementing Executive Order 13771, Titled `Reducing Regulation and Controlling Regulatory Costs'” (April 5, 2017).

The proposed change is intended to expand the geographical boundaries of the Savannah, Georgia, port of entry, and make the boundaries more easily identifiable to the public. There are no new costs to the public associated with this rule.

B. Regulatory Flexibility Act

The Regulatory Flexibility Act (5 U.S.C. 601 et. seq.), as amended by the Small Business Regulatory Enforcement and Fairness Act of 1996, requires agencies to assess the impact of regulations on small entities. A small entity may be a small business (defined as any independently owned and operated business not dominant in its field that qualifies as a small business per the Small Business Act); a small not-for-profit organization; or a small governmental jurisdiction (locality with fewer than 50,000 people).

This proposed rule merely expands the limits of an existing port of entry and does not impose any new costs on the public. Accordingly, we certify that this rule would not have a significant economic impact on a substantial number of small entities.

C. Unfunded Mandates Reform Act of 1995

This rule will not result in the expenditure by State, local, and tribal governments, in the aggregate, or by the private sector, of $100 million or more in any one year, and it will not significantly or uniquely affect small governments. Therefore, no actions are necessary under the provisions of the Unfunded Mandates Reform Act of 1995.

D. Executive Order 13132

The rule will not have substantial direct effects on the States, on the relationship between the National Government and the States, or on the distribution of power and responsibilities among the various levels of government. Therefore, in accordance with section 6 of Executive Order 13132, this rule does not have sufficient federalism implications to warrant the preparation of a federalism summary impact statement.

E. Signing Authority

The signing authority for this document falls under 19 CFR 0.2(a) because the extension of port limits is not within the bounds of those regulations for which the Secretary of the Treasury has retained sole authority. Accordingly, this notice of proposed rulemaking may be signed by the Secretary of Homeland Security (or his delegate).

VI. Authority

This change is proposed under the authority of 5 U.S.C. 301; 6 U.S.C. 101, et seq.; 19 U.S.C. 2, 66, 1202 (General Note 3(i), Harmonized Tariff Schedule of the United States), 1623, 1624, 1646a.

VII. Proposed Amendment to the Regulations

If the proposed port limits for Savannah, Georgia, are adopted, CBP will amend 19 CFR 101.3(b)(1) as necessary to reflect the new port limits.

Dated: June 27, 2017.
Elaine C. Duke,
Deputy Secretary.

[FR Doc. 2017-13983 Filed 6-30-17; 8:45 am]

BILLING CODE 9111-14-P